DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection for Field Crops Production. Revision to burden hours will be needed due to changes in the size of the target population, sampling design, the combining of several smaller surveys, and/or changes in questionnaire length.

DATES: Comments on this notice must be received by November 21, 2022 to be assured of consideration.

ADDRESSES: You may submit comments, identified by docket number 0535-0002, by any of the following methods:

• Email: ombofficer@nass.usda.gov. Include docket number above in the subject line of the message.

• efax: (855) 838-6382.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from Richard Hopper, NASS—OMB Clearance Officer, at (202) 720-2206 or at ombofficer@nass.usda.gov.

SUPPLEMENTARY INFORMATION:

Title: Field Crops Production.

OMB Control Number: 0535-0002.

Expiration Date of Approval: May 31, 2024.

Type of Request: Intent to Seek Approval to Revise and Extend an Information Collection for 3 years.

Abstract: The primary objective of the National Agricultural Statistics Service is to prepare and issue State and national estimates of crop and livestock production, prices, and disposition. The Field Crops Production Program consists of probability field crops surveys and supplemental panel surveys. The panel surveys capture unique crop characteristics such as the concentration of crops in localized geographical areas. These surveys are extremely valuable for commodities where acreage and yield are published at the county level.

Overall, there is a decrease in burden for this renewal. Accounting for the proposed mailings for the surveys in this renewal will increase burden for samples selected for the above surveys, but the decrease in burden resulting from the reduced sample sizes for both County Agricultural Production Survey (CAPS) and Cash Rents survey to publish cash rents at a county level exceeded the burden increase for the proposed number of mailings. The decrease in both sample sizes is due to updated criteria required to summarized statistics at the county level that were discussed at the 2020 USDA Fall Data Users' Meeting question and answer session. The transcript of the session can be found at this link: https://www.nass.usda.gov/Education_and_Outreach/Meeting/2020/2020-Fall-Data-Users-Meeting-Question-and-Answer.pdf.

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320.

All NASS employees and NASS contractors must also fully comply with all provisions of the Confidential Information Protection and Statistical Efficiency Act (CIPSEA) of 2018, Title III of Public Law 115-435, codified in 44 U.S.C. Ch. 35. CIPSEA supports NASS's pledge of confidentiality to all respondents and facilitates the agency's efforts to reduce burden by supporting statistical activities of collaborative agencies through designation of NASS agents, subject to the limitations and penalties described in CIPSEA.

Estimate of Burden: Public reporting burden for this information collection is based on a group of similar surveys with expected response times of 5-30 minutes and a frequency of 1-40 times per year. Estimated number of responses per respondent is 1.25.

Respondents: Farmers and Ranchers.

Estimated Total Number of Respondents: 444,500.

Estimated Total Annual Burden on Respondents: 142,500 hours.

Comments: Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, September 7, 2022.
Kevin L. Barnes,
Associate Administrator.

[FR Doc. 2022-20569 Filed 9-21-22; 8:45 am]

BILLING CODE 3410-20-P